DEPARTMENT OF COMMERCE

National Oceanic and Atmospheric Administration

50 CFR Chapters II, III, IV, V, and VI

RIN 0648-XC012

Plan for Periodic Review of Regulations

AGENCY: National Marine Fisheries Service (NMFS), National Oceanic and Atmospheric Administration (NOAA), Commerce.

ACTION: Proposed rule; request for comments.

SUMMARY: The Regulatory Flexibility Act (RFA) requires that the National Marine Fisheries Service (NMFS) periodically review existing regulations that have a significant economic impact on a substantial number of small entities, such as small businesses, small organizations, and small governmental jurisdictions. This plan describes how NMFS will perform this review and describes the regulations that are being proposed for review during the current review-cycle.

DATES: Written comments must be received by NMFS by August 15, 2012.

ADDRESSES: You may submit comments on this document, identified by 0648-XC012 by any of the following methods:

• Electronic Submission: Submit all electronic public comments via the Federal e-Rulemaking Portal www.regulations.gov. To submit comments via the e-Rulemaking Portal, first click the “submit a comment” icon, then enter 0648-XC012. Locate the document you wish to comment on from the resulting list and click on the “Submit a Comment” icon on the right of that line.

• Mail: Submit written comments to Wendy Morrison, National Marine Fisheries Service, NOAA, Office of Sustainable Fisheries, 1315 East-West Highway, Silver Spring, MD 20910 (mark outside of envelope “Comments on 610 review”).

• Fax: 301-713-1193; Attn: Wendy Morrison.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Wendy Morrison, (301) 427-8504, for questions on rules under SUPPLEMENTARY INFORMATION section listed in items 1 through 72; and Heather Coll, (301) 427-8455, for questions on rules under SUPPLEMENTARY INFORMATION section listed in items 73 through 76.

SUPPLEMENTARY INFORMATION:

Background

The RFA, 5 U.S.C. 601, requires that Federal agencies take into account how their regulations affect “small entities,” including small businesses, small Governmental jurisdictions and small organizations. For regulations proposed after January 1, 1981, the agency must either prepare a Regulatory Flexibility Analysis or certify that the regulation, if promulgated, will not have a significant economic impact on a substantial number of small entities. Section 602 requires that NMFS issue an Agenda of Regulations identifying rules the Agency is developing that are likely to have a significant economic impact on a substantial number of small entities.

Section 610 of the RFA requires Federal agencies to review existing regulations. It requires that NMFS publish a plan in the Federal Register explaining how it will review its existing regulations which have or will have a significant economic impact on a substantial number of small entities. Regulations that become effective after January 1, 1981, must be reviewed within 10 years of the publication date of the final rule. Section 610(c) requires that NMFS publish annually in the Federal Register a list of rules it will review during the succeeding 12 months. The list must describe the rule, explain the need for it, give the legal basis for it, and invite public comment.

Criteria for Review of Existing Regulations

The purpose of the review is to determine whether existing rules should be left unchanged, or whether they should be revised or rescinded in order to minimize significant economic impacts on a substantial number of small entities, consistent with the objectives of other applicable statutes. In deciding whether change is necessary, the RFA establishes five factors that NMFS will consider:

(1) Whether the rule is still needed;

(2) What type of complaints or comments were received concerning the rule from the public;

(3) The complexity of the rule;

(4) How much the rule overlaps, duplicates or conflicts with other Federal rules, and, to the extent feasible, with State and local governmental rules; and

(5) How long it has been since the rule has been evaluated or how much the technology, economic conditions, or other factors have changed in the area affected by the rule.

Plan for Periodic Review of Rules

NMFS will conduct reviews in such a way as to ensure that all rules for which a Final Regulatory Flexibility Analysis was prepared are reviewed within 10 years of the year in which they were originally issued. By December 31, 2012, NMFS will review all such rules issued during 2003 and 2004:

1. Fisheries of the Exclusive Economic Zone off Alaska; Steller Sea Lion Protection Measures for the Groundfish Fisheries off Alaska. RIN 0648-AQ08 (68 FR 204, January 2, 2003). NMFS issued a final rule to implement Steller sea lion protection measures to avoid the likelihood that the groundfish fisheries off Alaska would jeopardize the continued existence of the western distinct population segment of Steller sea lions or adversely modify its critical habitat. These management measures dispersed fishing effort over time and area to provide protection from potential competition for important Steller sea lion prey species in waters adjacent to rookeries and important haulouts. The intended effect of this final rule was to protect the endangered western distinct population segment of Steller sea lions, as required under the Endangered Species Act, and to conserve and manage the groundfish resources in the Bering Sea/Aleutian Islands management area and the Gulf of Alaska in accordance with the Magnuson-Stevens Act.

2. Fisheries of the Exclusive Economic Zone off Alaska; Revisions to Observer Coverage Requirements for Vessels and Shoreside Processors in the North Pacific Groundfish Fisheries. RIN 0648-AM44 (68 FR 715, January 7, 2003). NMFS issued a final rule to amend regulations governing the North Pacific Groundfish Observer Program. This action was necessary to refine observer coverage requirements and improve support for observers. This action was intended to ensure continued collection of high-quality observer data to support the management objectives of the Fishery Management Plan for the Groundfish Fishery of the Bering Sea and Aleutian Islands Area and the Fishery Management Plan for Groundfish of the Gulf of Alaska, and was intended to promote the goals and objectives contained in those FMPs.

3. Fisheries of the Exclusive Economic Zone off Alaska; Amendment 69 to Revise American Fisheries Act Inshore Cooperative Requirements. RIN 0648-AP71 (68 FR 6833, February 11, 2003). NMFS issued a final rule to implement Amendment 69 to the Fishery Management Plan for the Groundfish Fishery of the Bering Sea and Aleutians Area. This final rule allowed an American Fisheries Act inshore cooperative to contract with a non-member vessel to harvest a portion of the cooperative's pollock allocation. The North Pacific Fishery Management Council developed Amendment 69 to provide greater flexibility to inshore catcher vessel cooperatives to arrange for the harvest of their pollock allocation, and to address potential emergency situations, such as vessel breakdowns, that would prevent a cooperative from harvesting its entire allocation. This action was designed to be consistent with the environmental and socioeconomic objectives of the American Fisheries Act, the Magnuson-Stevens Act, the Fishery Management Plan, and other applicable laws.

4. Fisheries of the Exclusive Economic Zone off Alaska; Western Alaska Community Development Quota Program. RIN 0648-AL97 (68 FR 9902, March 3, 2003). NMFS issued a final rule to amend portions of the regulations governing the halibut fishery under the Western Alaska Community Development Quota (CDQ) Program. These changes increased the Regulatory Area (Area) 4E trip limit from 6,000 lb (2.72 metric tons (mt)) to 10,000 lb (4.54 mt) and modified the Area 4 Catch Sharing Plan to allow CDQ Program participants to harvest allocations of Area 4D halibut CDQ in Area 4E. This action was intended to enhance harvesting opportunities for halibut CDQ fishermen and to further the goals and objectives of the North Pacific Fishery Management Council with respect to the CDQ program and the Pacific halibut fishery, consistent with the regulations and resource management objectives of the International Pacific Halibut Commission.

5. Fisheries of the Exclusive Economic Zone off Alaska; Seasonal Area Closure to Trawl, Pot, and Hook-and-Line Fishing in Waters off Cape Sarichef. RIN 0648-AQ46 (68 FR 11004, March 7, 2003). NMFS issued a final rule to seasonally close a portion of the waters located near Cape Sarichef in the Bering Sea subarea to directed fishing for groundfish by vessels using trawl, pot, or hook-and-line gear. This action was necessary to support NMFS research on the effect of fishing on the localized abundance of Pacific cod. It was intended to further the goals and objectives of the Fishery Management Plan for the Groundfish Fishery of the Bering Sea and Aleutian Islands Area.

6. Fisheries of the Exclusive Economic Zone Off Alaska; Opening Waters to Pacific Cod Pot Fishing off Cape Barnabas and Caton Island. RIN 0648-AQ45 (68 FR 31629, May 28, 2003). NMFS issued a final rule to allow use of pot gear in waters around Cape Barnabas and Caton Island located in the Gulf of Alaska for directed fishing for Pacific cod. Prior to this regulation, waters within 3 nautical miles of these sites were closed to Pacific cod fishing by vessels using pot gear and named on a Federal fisheries permit. This action was necessary to provide consistency between State and Federal fishing restrictions and to relieve a potential burden on the Pacific cod pot gear fishing sector. This final rule was intended to meet the objectives in the Magnuson-Stevens Act and to further the goals and objectives of the Fishery Management Plan for Groundfish of the Gulf of Alaska.

7. Individual Fishing Quota Program for Pacific Halibut and Sablefish; Amendment 72/64 to Revise Recordkeeping and Reporting Requirements. RIN 0648-AP92 (68 FR 44473, July 29, 2003). NMFS issued a final rule to implement Amendment 72 to the Fishery Management Plan for the Groundfish Fishery of the Bering Sea and Aleutian Islands Area and Amendment 64 to the Fishery Management Plan for Groundfish of the Gulf of Alaska. This action revised certain recordkeeping and reporting requirements for the Individual Fishing Quota (IFQ) Program for fixed gear Pacific halibut and sablefish fisheries and the Western Alaska Community Development Quota Program for the Pacific halibut fishery. This action was necessary to improve IFQ fishing operations, while complying with IFQ Program requirements; to improve NMFS' ability to efficiently administer the program; and to improve the clarity and consistency of IFQ Program regulations. This action was intended to meet the conservation and management requirements of the Northern Pacific Halibut Act of 1982 with respect to halibut, and of the Magnuson-Stevens Act with respect to sablefish, and to further the goals and objectives of the groundfish Fishery Management Plans.

8. Fisheries off the Exclusive Economic Zone; Amendment of Eligibility Criteria for the Bering Sea and Aleutian Islands Management Area Pacific Cod Hook-and-Line and Pot Gear Fisheries. RIN 0648-AQ75 (68 FR 44666, July 30, 2003). NMFS issued a final rule to amend eligibility criteria for Pacific cod endorsements to groundfish licenses issued under the License Limitation Program. These endorsements are necessary to participate in the Bering Sea and Aleutian Islands Management Area (BSAI) Pacific cod hook-and-line or pot gear fisheries with vessels greater than or equal to 60 feet length overall. This action was necessary to allow additional participation in the BSAI Pacific cod hook-and-line or pot gear fisheries, as intended by the North Pacific Fishery Management Council. The intended effect of this action was to prevent unnecessary restriction on participation in the BSAI Pacific cod hook-and-line or pot gear fisheries and to conserve and manage the Pacific cod resources in the BSAI in accordance with the Magnuson-Stevens Act.

9. Fisheries of the Exclusive Economic Zone off Alaska; License Limitation Program. RIN 0648-AQ73 (68 FR 46117, August 5, 2003). NMFS issued a final rule to amend eligibility criteria for Bering Sea and Aleutian Islands (BSAI) crab species licenses issued under the License Limitation Program and required for participation in the BSAI crab fisheries. This action was necessary to allow participation in the BSAI crab fisheries in a manner intended by the North Pacific Fishery Management Council. The intended effect of this action was to allow vessels with recent participation in the BSAI crab fisheries to qualify for a License Limitation Program crab species license and to conserve and manage the crab resources in the BSAI in accordance with the Magnuson-Stevens Act.

10. Pacific Halibut Fisheries; Guideline Harvest Levels for the Guided Recreational Halibut Fishery. RIN 0648-AK17 (68 FR 47256, August 8, 2003). NMFS issued a final rule to implement a guideline harvest level for managing the harvest of Pacific halibut in the guided recreational fishery in International Pacific Halibut Commission areas 2C and 3A in and off of Alaska. The guideline harvest level established an amount of halibut that would be monitored annually in the guided recreational fishery. This action was necessary to allow NMFS to manage more comprehensively the Pacific halibut stocks in waters off Alaska. It was intended to further the management and conservation goals of the Northern Pacific Halibut Act of 1982.

11. Fisheries of the Exclusive Economic Zone off Alaska; Removal of Full Retention and Utilization Requirements for Rock Sole and Yellowfin Sole. RIN 0648-AQ78 (68 FR 52142, September 2, 2003). NMFS issued regulatory changes to implement the partial approval of Amendment 75 to the Fishery Management Plan for the Groundfish Fishery of the Bering Sea and Aleutian Islands Area. As partially approved, this amendment eliminated all reference to the requirements for 100-percent retention and utilization of rock sole and yellowfin sole in the groundfish fisheries of the Bering Sea and Aleutian Islands Management Area. This action was necessary to amend regulations to maintain consistency with the the Magnuson-Stevens Fishery Management and Conservation Act, the Fishery Management Plan, and other applicable laws.

12. Fisheries of the Exclusive Economic Zone Off Alaska; Electronic Reporting Requirements. RIN 0648-AP66 (68 FR 58038, October 8, 2003). NMFS issued a final rule to amend regulations governing the North Pacific Groundfish Observer Program. This action was necessary to refine requirements for the facilitation of observer data transmission and improve support for observers. The final rule was necessary to improve the timely transmission of high-quality observer data for a sector of catcher vessels in these fisheries. It was intended to support the management objectives of the Fishery Management Plan for the Groundfish Fishery of the Bering Sea and Aleutian Islands Area and the Fishery Management Plan for Groundfish of the Gulf of Alaska.

13. Fisheries of the Exclusive Economic Zone off Alaska; Allocation of Pacific Cod Among Fixed Gear Sectors. RIN 0648-AR31 (68 FR 67086, December 1, 2003). NMFS issued a final rule to implement Amendment 77 to the Fishery Management Plan for the Groundfish Fishery of the Bering Sea and Aleutian Islands Area. This action allocated the fixed gear portion of the Bering Sea and Aleutian Islands Management Area (BSAI) Pacific cod total allowable catch among the fixed gear sectors. In addition, this action further split the pot sector share of the total allowable catch between pot catcher/processors and pot catcher vessels; changed how the 2 percent annual BSAI Pacific cod allocation to jig gear was seasonally apportioned; and changed how unused portions were reallocated to other gear types. Amendment 77 and its implementing regulations were necessary to maintain the stability of the fixed gear Pacific cod fishery. This action was intended to promote the goals and objectives of the Magnuson-Stevens Act the Fishery Management Plan, and other applicable laws.

14. Fisheries of the Exclusive Economic Zone off Alaska; Revision to the Management of “Other Species” Community Development Quota. RIN 0648-AQ88 (68 FR 69974, December 16, 2003). NMFS issued a final rule that modified the management of the “other species” Community Development Quota (CDQ) reserve by eliminating specific allocations of “other species” CDQ to individual CDQ managing organizations. The action instead allowed NMFS to manage the “other species” CDQ reserve with the general limitations used to manage the catch of non-CDQ groundfish in the Bering Sea and Aleutian Islands management area. This action also eliminated the CDQ non-specific reserve and made other changes to improve the clarity and consistency of CDQ Program regulations. This action was necessary to improve NMFS' ability to effectively administer the CDQ Program. It was intended to further the goals and objectives of the North Pacific Fishery Management Council with respect to this program.

15. Fisheries of the Exclusive Economic Zone off Alaska; Halibut Fisheries in U.S. Convention Waters Off Alaska; Management Measures to Reduce Seabird Incidental Take in the Hook-and-Line Halibut and Groundfish Fisheries. RIN 0648-AM30 (69 FR 1930, January 13, 2004). NMFS issued a final rule to revise regulations requiring seabird avoidance measures in the hook-and-line groundfish fisheries of the Bering Sea and Aleutian Islands management area and Gulf of Alaska, and in the Pacific halibut fishery in U.S. Convention waters off Alaska. This action was intended to improve the pre-existing requirements and further mitigate interactions with the shorttailed albatross (Phoebastria albatrus), an endangered species protected under the Endangered Species Act, and with other seabird species in hook-and-line fisheries in and off Alaska, and thus further the goals and objectives of the Magnuson-Stevens Act, the Northern Pacific Halibut Act of 1982, the Migratory Bird Treaty Act, and the Endangered Species Act.

16. Fisheries of the Exclusive Economic Zone Off Alaska; Groundfish Observer Program. RIN 0648-AR32 (69 FR 1951, January 13, 2004). NMFS issued a final rule to amend regulations governing the North Pacific Groundfish Observer Program. This action was necessary to provide added flexibility in the deployment of observers in the Exclusive Economic Zone off the coast of Alaska. In addition, this action was intended to ensure continued collection of high-quality observer data. It was necessary to support the management objectives of the Fishery Management Plan for the Groundfish Fishery of the Bering Sea and Aleutian Islands Area and the Fishery Management Plan for Groundfish of the Gulf of Alaska, and to promote the goals and objectives contained in those Fishery Management Plans.

17. Fisheries of the Exclusive Economic Zone Off Alaska; Provisions of the American Fisheries Act (AFA). RIN 0648-AR13 (69 FR 6198, February 10, 2004). NMFS issued a final rule to remove the expiration date of regulations published in the Federal Register on December 30, 2002, implementing the AFA. The AFA final rule inadvertently specified a period of effectiveness that would expire December 31, 2007. This rule made the amendments to the AFA rule permanent, as originally intended. This action was necessary to implement the AFA consistent with statutory requirements, and was intended to do so in a manner consistent with the objectives of the Magnuson-Stevens Act and other applicable laws.

18. Fisheries of the Exclusive Economic Zone Off Alaska; Recordkeeping and Reporting. RIN 0648-AR08 (69 FR 21975, April 23, 2004). NMFS issued this final rule to revise the descriptions of Gulf of Alaska (GOA) reporting areas 620 and 630 in paragraph (b) of Figure 3 to 50 CFR part 679 to include the entire Alitak/Olga/Deadman's/Portage Bay complex of Kodiak Island within reporting area 620. This action was necessary to improve quota management and fishery enforcement in the GOA. This action was intended to meet the conservation and management requirements of the Magnuson-Stevens Act and to further the goals and objectives of the Fishery Management Plan for Groundfish of the Gulf of Alaska.

19. Fisheries of the Exclusive Economic Zone Off Alaska; Individual Fishing Quota Program; Community Purchase. RIN 0648-AQ98 (69 FR 23681, April 30, 2004). NMFS issued a final rule to implement Amendment 66 to the Fishery Management Plan for Groundfish of the Gulf of Alaska, and an amendment to the Pacific halibut commercial fishery regulations for waters in and off of Alaska. Amendment 66 to the Fishery Management Plan and the regulatory amendment modified the Individual Fishing Quota (IFQ) Program by revising the eligibility criteria to receive halibut and sablefish IFQ and quota share (QS) by transfer to allow eligible communities in the Gulf of Alaska to establish non-profit entities to purchase and hold QS for lease to, and use by, community residents as defined by specific elements of the proposed action. This action improved the effectiveness of the IFQ Program by providing additional opportunities for residents of fishery dependent communities and was necessary to promote the objectives of the Magnuson-Stevens Act and the Northern Pacific Halibut Act of 1982 with respect to the IFQ fisheries.

20. Fisheries of the Exclusive Economic Zone Off Alaska; Skates Management in the Groundfish Fisheries of the Gulf of Alaska. RIN 0648-AR73 (69 FR 26313, May 12, 2004). NMFS issued a final rule to implement Amendment 63 to the Fishery Management Plan for Groundfish of the Gulf of Alaska. Amendment 63 moved skates from the “other species” list to the “target species” list in the Fishery Management Plan. By listing skates as a target species, management of a directed fishery for skates in the Gulf of Alaska was improved. The final rule revised the definition of “other species” and revised the listings for skates and “other species” to allow for the management of incidental catch of skates in groundfish fisheries and for groundfish in the skates directed fishery. This action was necessary to reduce the potential for overfishing skates. This action was intended to promote the goals and objectives of the Magnuson-Stevens Act, the Fishery Management Plan, and other applicable laws.

21. Fisheries of the Exclusive Economic Zone Off Alaska; General Limitations. RIN 0648-AR41 (69 FR 32901, June 14, 2004). NMFS issued a final rule amending regulations establishing pollock Maximum Retainable Amounts (MRA). This action adjusted the MRA enforcement period for pollock harvested in the Bering Sea and Aleutian Islands management area from enforcement at anytime during a fishing trip to enforcement at the time of offload. This action was necessary to reduce regulatory discards of pollock caught incidentally in the directed fisheries for non-pollock groundfish species. The intended effect of this action was to better use incidentally caught pollock in accordance with the goals and objectives of the Magnuson-Stevens Act and the Fishery Management Plan for the Groundfish Fishery of the Bering Sea and Aleutian Islands Area.

22. Fisheries of the Exclusive Economic Zone Off Alaska; Revisions to the Annual Harvest Specifications Process for the Groundfish Fisheries of the Gulf of Alaska and the Bering Sea and Aleutian Islands Management Area. RIN 0648-AR77 (69 FR 64683, November 8, 2004). NMFS issued a final rule that implemented Amendment 48 to the Fishery Management Plan for Groundfish of the Gulf of Alaska (GOA) and Amendment 48 to the Fishery Management Plan for Groundfish of the Bering Sea and Aleutian Islands Management Area (BSAI) (Amendments 48/48). Amendments 48/48 revised the administrative process used to establish annual harvest specifications for the groundfish fisheries of the GOA and the BSAI, and updated the Fishery Management Plans by: Revising the description of the groundfish fisheries and participants, revising the name of the BSAI Fishery Management Plan, revising text to simplify wording and correct typographical errors, and revising the description of the North Pacific Fishery Management Council Groundfish Plan Teams' responsibilities. The final rule revised regulations to implement the new harvest specifications process in Amendments 48/48 and revised the name of the BSAI Fishery Management Plan. This action was intended to promote the goals and objectives of the Magnuson-Stevens Act, the Fishery Management Plans, and other applicable laws.

23. Fisheries of the Exclusive Economic Zone Off Alaska; Full Retention of Demersal Shelf Rockfish in the Southeast Outside District of the Gulf of Alaska. RIN 0648-AP73 (69 FR 68095, November 23, 2004). NMFS issued a final rule that requires the operator of a federally permitted catcher vessel using hook-and-line or jig gear in the Southeast Outside District of the Gulf of Alaska to retain and land all demersal shelf rockfish caught while fishing for groundfish or for Pacific halibut under the Individual Fishing Quota program. This action was necessary to improve estimates of fishing mortality of demersal shelf rockfish. This final rule was intended to further the goals and objectives of the Magnuson-Stevens Act and the Fishery Management Plan for Groundfish of the Gulf of Alaska.

24. Fisheries of the Northeastern United States; Atlantic Sea Scallop Fishery; Framework Adjustment 15. RIN 0648-AQ28 (68 FR 9580, February 28, 2003). NMFS issued this final rule to implement Framework 15 to the Atlantic Sea Scallop Fishery Management Plan developed by the New England Fishery Management Council. This final rule implemented management measures for the 2003 fishing year, including a days-at-sea adjustment, and continuation of a Sea Scallop Area Access Program for 2003. The intent of this action was to achieve the goals and objectives of the Fishery Management Plan under the Magnuson-Stevens Act and to achieve optimum yield in the scallop fishery. In addition, this final rule included regulatory text that codifies an additional gear stowage provision for scallop dredge gear that was established by the Administrator, Northeast Region, NMFS in 2001.

25. Magnuson-Stevens Fishery Conservation and Management Act Provisions; Fisheries of the Northeastern United States; Summer Flounder, Scup, and Black Sea Bass Fisheries; Summer Flounder, Scup, and Black Sea Bass Fishery Management Plan. RIN 0648-AN12 (68 FR 10181, March 4, 2003). NMFS issued this final rule to implement approved measures contained in Amendment 13 to the Summer Flounder, Scup, and Black Sea Bass Fishery Management Plan. Pursuant to the Magnuson-Stevens Act and the Fishery Management Plan, this final rule established an annual coastwide quota for black sea bass and allowed vessels to fish under a Southeast Region Snapper/Grouper permit and to retain their Northeast Region Black Sea Bass Permit during a Federal fishery closure. Finally, this final rule required that vessels issued a Federal moratorium permit for summer flounder, scup, and black sea bass be subject to the presumption that any fish of these species on board were harvested from the exclusive economic zone.

26. Atlantic Coastal Fisheries Cooperative Management Act Provisions; Fisheries of the Northeastern United States; American Lobster Fishery. RIN 0648-AP15 (68 FR14902, March 27, 2003). NMFS amended regulations to modify the management measures applicable to the American lobster fishery. This action responded to the following recommendations made by the Atlantic States Marine Fisheries Commission (Commission): To control fishing effort as determined by historical participation in the American lobster trap fisheries conducted in the offshore Lobster Conservation Management Area 3 (Area 3) and in the nearshore LCMAs of the Exclusive Economic Zone from New York through North Carolina (Areas 4 and 5); to implement a mechanism for conservation equivalency and associated trap limits for owners of vessels in possession of a Federal lobster permit fishing in New Hampshire state waters; and to clarify lobster management area boundaries in Massachusetts waters. NMFS included in this final rule a mechanism for Federal consideration of future Commission requests to implement conservation-equivalent measures and a technical amendment to the regulations clarifying that Federal lobster permit holders must attach federally approved lobster trap tags to all lobster traps fished in any portion of any management area (whether in state or Federal waters). This requirement was not new, but was not previously specified in the regulatory text. This announcement was intended to make the regulations easier to understand.

27. Fisheries of the Northeastern United States; Northeast Multispecies Fishery; Framework Adjustment 37 to the Northeast Multispecies Fishery Management Plan. RIN 0648-AQ35 (68 FR 22333, April 28, 2003). NMFS issued this final rule to implement measures contained in Framework Adjustment 37 to the Northeast Multispecies Fishery Management Plan to eliminate the Year 4 default measure for whiting in both stock areas; reinstate the Cultivator Shoal whiting fishery season through October 31 each year; eliminate the 10-percent restriction on red hake incidental catch in the Cultivator Shoal whiting fishery; adjust the incidental catch allowances in Small Mesh Areas 1 and 2 so that they are consistent with those in the Cape Cod Bay raised footrope trawl fishery; clarify the transfer-at-sea provisions for small-mesh multispecies for use as bait; modify slightly the Cape Cod Bay raised footrope trawl fishery area; and retain the 30,000-lb (13.6 mt) trip limit for the Cultivator Shoal whiting fishery.

28. Magnuson-Stevens Fishery Conservation and Management Act Provisions; Fisheries of the Northeastern United States; Monkfish Fishery; Framework Adjustment 2. RIN 0648-AQ29 (68 FR 22325, April 28, 2003). NMFS implemented measures contained in Framework Adjustment 2 to the Monkfish Fishery Management Plan. This final rule modified the monkfish overfishing definition reference points and optimum yield target control rule to be consistent with the best scientific information available and the provisions of the Magnuson-Stevens Act. This rule also implemented an expedited process for setting annual target total allowable catch levels (TACs); established a method for adjusting monkfish trip limits and days-at-sea allocations to achieve the annual target TACs; and established target TACs and corresponding trip limits for the 2003 fishing year. As a result, this rule eliminated the default measures adopted in the original Fishery Management Plan that would have resulted in the elimination of the directed monkfish fishery and reduced incidental catch limits. Finally, this final rule clarified the regulations pertaining to the monkfish area declaration requirements by specifying that vessels intending to fish under either a monkfish, Northeast multispecies, or scallop days-at-sea, under the less restrictive measures of the Northern Fishery Management Area (NFMA), declare their intent to fish in the NFMA for a minimum of 30 days.

29. Fisheries of the Northeastern United States; Northeast Multispecies Fishery; Framework Adjustment 38 to the Northeast Multispecies Fishery Management Plan. RIN 0648-AQ76 (68 FR 40808, July 9, 2003). NMFS issued this final rule to implement measures contained in Framework Adjustment 38 to the Northeast (NE) Multispecies Fishery Management Plan to exempt a fishery from the Gulf of Maine Regulated Mesh Area mesh size regulations. Framework 38 established an exempted small mesh silver hake (Merluccius bilinearis) (whiting) fishery in the inshore Gulf of Maine. The exempted fishery was authorized from July 1 through November 30 each year; required the use of specific exempted grate-raised footrope trawl gear; established a maximum whiting possession limit of 7,500 lb (3,402 kg); and included incidental catch restrictions.

30. Magnuson-Stevens Fishery Conservation and Management Act Provisions; Fisheries of the Northeastern United States; Northeast Skate Complex Fisheries; Skate Fishery Management Plan. RIN 0648-AO10 (68 FR 49693, August 19, 2003). NMFS issued this final rule to implement approved measures contained in the Skate Fishery Management Plan. These regulations implemented the following measures: A possession limit for skate wings; a bait-only exemption to the wing possession limit restrictions; a procedure for the development, revision, and/or review of management measures on an annual, biennial, and interannual basis, including a framework adjustment process; open access permitting requirements for fishing vessels, operators, and dealers; new species-level reporting requirements for skate vessels and dealers; new discard reporting requirements for Federal vessels; and prohibitions on possessing smooth skates in the Gulf of Maine Regulated Mesh Area, and thorny skates and barndoor skates throughout the management unit. This final rule also implemented other measures for administration and enforcement. The intended effect of this final rule was to implement permanent management measures for the Northeast skate fisheries pursuant to the Magnuson-Stevens Act and the Fishery Management Plan, and to prevent overfishing of skate resources. Also, NMFS informed the public of the approval by the Office of Management and Budget of the collection-of-information requirements contained in this final rule and publishes the Office of Management and Budget control numbers for these collections.

31. Fisheries of the Northeastern United States; Summer Flounder, Scup, and Black Sea Bass Fisheries; Framework Adjustment 3. RIN 0648-AR43 (68 FR 62250, November 3, 2003). NMFS issued this final rule to implement measures contained in Framework Adjustment 3 to the Summer Flounder, Scup, and Black Sea Bass Fishery Management Plan to allow the rollover of unused commercial scup quota from the Winter I period to the Winter II period, and to change the regulations regarding the scup commercial quota counting procedures. NMFS also adjusted the 2003 Winter II commercial scup quota and possession limit.

32. Magnuson-Stevens Fishery Conservation and Management Act Provisions; Fisheries of the Northeastern United States; Atlantic Surfclam and Ocean Quahog Fishery; Amendment 13 to the Surfclam and Ocean Quahog Fishery Management Plan. RIN 0648-AP57 (68 FR 69970, December 16, 2003). NMFS implemented measures contained in Amendment 13 to the Fishery Management Plan. Amendment 13 established: A new surfclam overfishing definition; multi-year fishing quotas; a mandatory vessel monitoring system, when such a system was economically viable; the ability to suspend or adjust the surfclam minimum size limit through a framework adjustment; and an analysis of fishing gear impacts on essential fish habitat for surfclams and ocean quahogs. This final rule included technical corrections to the regulations implementing the Fishery Management Plan, which clarified the Mid-Atlantic Fishery Management Council's intent not to restrict allocation ownership to only those entities that also own a permitted vessel, and to eliminate the restriction on the transfer of allocation tags of amounts less than 160 bushels (bu) (i.e., 5 cage tags). The primary purpose of Amendment 13 was to rectify the disapproved surfclam overfishing definition and the essential fish habitat analysis and rationale contained in Amendment 12 in order to comply with the Magnuson-Stevens Act, and to simplify the regulatory requirements of the Fishery Management Plan.

33. Fisheries of the Northeastern United States; Recordkeeping and Reporting Requirements; Regulatory Amendment To Modify Seafood Dealer Reporting Requirements. RIN 0648-AR79 (69 FR 13482, March 23, 2004). NMFS issued this final rule to implement approved management measures contained in a regulatory amendment to modify the reporting and recordkeeping regulations for federally permitted seafood dealers participating in the summer flounder, scup, black sea bass, Atlantic sea scallop, Northeast (NE) multispecies, monkfish, Atlantic mackerel, squid, butterfish, Atlantic surfclam, ocean quahog, Atlantic herring, Atlantic deep-sea red crab, tilefish, Atlantic bluefish, skates, and/or spiny dogfish fisheries in the NE Region. The purpose of this action was to improve monitoring of commercial landings by collecting more timely and accurate data, enhance enforceability of the existing regulations, promote compliance with existing regulations, and ensure consistency in reporting requirements among fisheries.

34. Fisheries of the Northeastern United States; Summer Flounder, Scup, and Black Sea Bass Fisheries; Framework Adjustment 4. RIN 0648-AR62 (69 FR 16175, March 29, 2004). NMFS issued a final rule implementing measures contained in Framework Adjustment 4 to the Summer Flounder, Scup, and Black Sea Bass Fishery Management Plan that allowed for the transfer at sea of scup between commercial fishing vessels, and clarified the circumstances under which a vessel must operate with the specified mesh. Regulations regarding the establishment and administration of research set-aside quota were also amended to clarify how unused research set-aside quota was to be returned to the fishery.

35. Fisheries of the Northeastern United States; Monkfish Fishery. RIN 0648-AR89 (69 FR 18291, April 7, 2004). NMFS implemented measures to establish target total allowable catch (TAC) levels for the monkfish fishery for the 2004 fishing year. The regulation also adjusted trip limits and days-at-sea for limited access monkfish vessels fishing in the Southern Fishery Management Area based upon the methods established in Framework Adjustment 2 to the Monkfish Fishery Management Plan. Based on these methods, this final rule established FY 2004 target TACs of 16,968 mt for the Northern Fishery Management Area, and 6,772 mt for the Southern Fishery Management Area; adjusted the trip limits for vessels fishing in the Southern Fishery Management Area to 550 lb (250 kg) tail weight per days-at-sea for limited access Category A and C vessels, and 450 lb (204 kg) tail weight per days-at-sea for limited access Category B and D vessels; and restricted the fishing year 2004 days-at-sea available for monkfish limited access vessels fishing in the Southern Fishery Management Area to 28 days-at-sea.

36. Fisheries of the Northeastern United States; Tilefish Fishery; Reinstatement of Permit Requirements for the Tilefish Fishery. RIN 0648-AR75 (69 FR 22454, April 26, 2004). NMFS reinstated the permit requirements for commercial tilefish vessels. These permit requirements were set aside in a Federal Court Order on the grounds that the limited access program contained in the Tilefish Fishery Management Plan violated National Standard 2 of the Magnuson-Stevens Act. The Court found that there was insufficient support for the various limited access permit criteria in the administrative record for the Fishery Management Plan. NMFS reinstated these permit requirements based on additional information in the form of a supplemental administrative record to the Fishery Management Plan provided by the Mid-Atlantic Fishery Management Council that supported and explained the basis for the limited access permit criteria contained in the Fishery Management Plan. This action also allocated the remainder of the fishing year 2004 (November 1, 2003-October 31, 2004) tilefish total allowable landings to the various limited access permit categories according to the regulations, based upon a projection of tilefish landings through the effective date of this rule, and using dealer reports. This action enabled NMFS to manage the tilefish fishery in accordance with the provisions of the Magnuson-Stevens Act by preventing overfishing, and ensuring that the stock rebuilding objective of the Fishery Management Plan was achieved.

37. Magnuson-Stevens Fishery Conservation and Management Act Provisions; Fisheries of the Northeastern United States; Northeast (NE) Multispecies Fishery; Amendment 13. RIN 0648-AN17 (69 FR 22906, April 27, 2004). NMFS implemented approved measures contained in Amendment 13 to the NE Multispecies Fishery Management Plan. Amendment 13 was developed by the New England Fishery Management Council to end overfishing and rebuild NE multispecies (groundfish) stocks managed under the authority of the Magnuson-Stevens Act, and to make other changes in the management of the groundfish fishery. This rule implemented the following measures: Changes in the days-at-sea baseline for determining historical participation in the groundfish fishery; days-at-sea reductions from the baseline; creation of new categories of days-at-sea and criteria for their allocation and use in the fishery; changes in minimum fish size and possession limits for recreationally caught fish; a new limited access permit category for Handgear vessels; elimination of the northern shrimp fishery exemption line; access to groundfish closed areas for tuna purse seiners; an exemption program for southern New England scallop dredge vessels; modifications to Vessel Monitoring System requirements; changes to procedures for exempted fisheries; changes to the process for making periodic adjustments to management measures in the groundfish fishery; revisions to trip limits for cod and yellowtail flounder; changes in gear restrictions, including minimum mesh sizes and gillnet limits; a days-at-sea Transfer Program; a days-at-sea Leasing Program; implementing measures for the U.S./Canada Resource Sharing Understanding for cod, haddock, and yellowtail flounder on Georges Bank; a Special Access Program to allow increased targeting of Georges Bank yellowtail flounder; revisions to overfishing definitions and control rules; measures to protect essential fish habitat; new reporting requirements; sector allocation procedures; and a Georges Bank Cod Hook Gear Sector Allocation. The effort-reduction measures in Amendment 13 were intended to end overfishing on all stocks and constitute rebuilding programs for those groundfish stocks that require rebuilding. Other measures were intended to provide flexibility and business options for permit holders. Also, NMFS informed the public of the approval by the Office of Management and Budget of the collection-of information requirements contained in this final rule and publishes the Office of Management and Budget control numbers for these collections.

38. Fisheries of the Northeastern United States; Atlantic Sea Scallop Fishery; Amendment 10. RIN 0648-AN16 (69 FR 35194, June 23, 2004). NMFS implemented approved measures contained in Amendment 10 to the Atlantic Sea Scallop Fishery Management Plan, developed by the New England Fishery Management Council. Amendment 10 included a long-term, comprehensive program to manage the sea scallop fishery through an area rotation management program to maximize scallop yield. Areas were defined and would be closed and reopened to fishing on a rotational basis, depending on the condition and size of the scallop resource in the areas. This rule included measures to minimize the adverse effects of fishing on essential fish habitat to the extent practicable. Amendment 10 also included updated days-at-sea allocations, measures to minimize bycatch to the extent practicable, and other measures to make the management program more effective, efficient, and flexible. In addition, NMFS published the Office of Management and Budget control numbers for collection of-information requirements contained in this final rule.

39. Fisheries of the Northeastern United States; Summer Flounder, Scup, and Black Sea Bass Fisheries; Framework Adjustment 5. RIN 0648-AR50 (69 FR 62818, October 28, 2004). NMFS issued this final rule to implement measures contained in Framework Adjustment 5 to the Summer Flounder, Scup, and Black Sea Bass Fishery Management Plan that allowed for specification of annual Total Allowable Landings for multiple years. The intent was to provide flexibility and efficiency to the management of the species. In addition, this final rule included several administrative modifications to the existing regulations for clarification purposes.

40. Fisheries of the Northeastern United States; Atlantic Sea Scallop Fishery and Northeast (NE) Multispecies Fishery; Framework 16 and Framework 39. RIN 0648-AR55 (69 FR 63460, November 2, 2004). NMFS implemented concurrently Framework 16 to the Atlantic Sea Scallop Fishery Management Plan and Framework 39 to the Northeast Multispecies Fishery Management Plan developed by the New England Fishery Management Council. The Joint Frameworks established Scallop Access Areas within Northeast multispecies Closed Area I, Closed Area II, and the Nantucket Lightship Closed Area. Prior to these regulations, the NE multispecies closed areas were closed year-round to all fishing that was capable of catching NE multispecies, including scallop fishing. The Joint Frameworks allowed the scallop fishery to access the scallop resource within portions of the NE multispecies closed areas during specified seasons, and ensured that NE multispecies catches by scallop vessels were consistent with the Multispecies Fishery Management Plan. The Joint Frameworks also revised the essential fish habitat closed areas implemented under Amendment 10 to the Scallop Fishery Management Plan in order to make the areas consistent with the essential fish habitat closures under the Multispecies Fishery Management Plan, as established by Amendment 13 to the Multispecies Fishery Management Plan.

41. Magnuson-Stevens Fishery Conservation and Management Act Provisions; Fisheries of the Northeastern United States; Northeast (NE) Multispecies Fishery; Framework Adjustment 40-A. RIN 0648-AS34 (69 FR 67780, November 19, 2004). NMFS implemented approved measures contained in Framework Adjustment 40-A to the NE Multispecies Fishery Management Plan. Framework Adjustment 40-A was developed by the New England Fishery Management Council to provide additional opportunities for vessels in the fishery to target healthy stocks of groundfish in order to mitigate the economic and social impacts resulting from the effort reductions required by Amendment 13 to the Fishery Management Plan, and to harvest groundfish stocks at levels that approach optimum yield. This rule implemented three programs to allow vessels to use Category B Days-at-Sea (both Regular and Reserve) to target healthy stocks: Regular B days-at-sea Pilot Program; Closed Area (CA) I Hook Gear Haddock Special Access Program for the Georges Bank Cod Hook Sector; and Eastern U.S./Canada Haddock Special Access Program Pilot Program. In addition, Framework Adjustment 40-A relieved an Amendment 13 restriction that prohibited vessels from fishing both in the Western U.S./Canada Area and outside that area on the same trip.

42. Fisheries off West Coast States and in the Western Pacific; Pacific Coast Groundfish Fishery; Amendment 17. RIN 0648-AQ68 (68 FR 52519, September 4, 2003). NMFS issued this final rule to implement Amendment 17 to the Pacific Coast Groundfish Fishery Management Plan. Amendment 17 changed the Pacific Fishery Management Council's (Council's) annual groundfish management process from an annual to a biennial process. Amendment 17 was intended to ensure that the specifications and management measures process comports with a Federal Court ruling, to make the Council's development process for specifications and management measures more efficient so that more time was available for other management activities, and to streamline the NMFS regulatory process for implementing the specifications and management measures.

43. Fisheries off West Coast States and in the Western Pacific; Pacific Coast Groundfish Fishery; Vessel Monitoring Systems and Incidental Catch Measures. RIN 0648-AQ58 (68 FR62374, November 4, 2003). NMFS issued a final rule to require vessels registered to Pacific Coast groundfish fishery limited entry permits to carry and use mobile vessel monitoring system transceiver units while fishing in state or Federal waters off the coasts of Washington, Oregon and California. This action was necessary to monitor compliance with large-scale depth-based conservation areas that restrict fishing across much of the continental shelf. This final rule also required the operators of any vessel registered to a limited entry permit and any open access or tribal vessel using trawl gear, including exempted gear used to take pink shrimp, spot and ridgeback prawns, California halibut and sea cucumber, to declare their intent to fish within a conservation area specific to their gear type, in a manner that was consistent with the conservation area requirements. This action was intended to further the conservation goals and objectives of the Pacific Coast Groundfish Fishery Management Plan by allowing fishing to continue in areas and with gears that can harvest healthy stocks while reducing the incidental catch of low-abundance species.

44. Fisheries Off West Coast States and in the Western Pacific; Pacific Coast Groundfish Fishery; Amendment 16-1. RIN 0648-AR36 (69 FR8861, February 26, 2004). NMFS issued this final rule to implement Amendment 16-1 to the Pacific Coast Groundfish Fishery Management Plan. Amendment 16-1 set a process for and standards by which the Council would specify rebuilding plans for groundfish stocks declared overfished by the Secretary of Commerce. Amendment 16-1 was intended to ensure that Pacific Coast groundfish overfished species rebuilding plans meet the requirements of the Magnuson-Stevens Act, in particular national standard 1 on overfishing, which addresses rebuilding overfished fisheries. Amendment 16-1 was also intended to partially respond to a Court order in which NMFS was ordered to provide Pacific Coast groundfish rebuilding plans as Fishery Management Plans, amendments, or regulations, per the Magnuson-Stevens Act.

45. Fisheries Off West Coast States and in the Western Pacific; Pacific Coast Groundfish Fishery; Amendment 16-2. RIN 0648-AR35 (69 FR19347, April 13, 2004). NMFS issued this final rule to implement Amendment 16-2 to the Pacific Coast Groundfish Fishery Management Plan. Amendment 16-2 amended the Fishery Management Plan to include overfished species rebuilding plans for lingcod, canary rockfish, darkblotched rockfish, and Pacific ocean perch within the Fishery Management Plan. This final rule added two rebuilding parameters to the Code of Federal Regulations for each overfished stock, the target year for rebuilding and the harvest control rule. Amendment 16-2 addressed the requirements of the Magnuson-Stevens Act to protect and rebuild overfished species managed under a Federal Fishery Management Plan. Amendment 16-2 also responded to a Court order, in which NMFS was ordered to provide Pacific Coast groundfish rebuilding plans as Fishery Management Plans, amendments, or regulations, per the Magnuson-Stevens Act.

46. Fisheries off West Coast States and in the Western Pacific; Pacific Coast Groundfish Fishery; Groundfish Observer Program. RIN 0648-AK26 (69 FR31751, June 7, 2004). NMFS published this interim final rule to amend the regulations implementing the Pacific Coast Groundfish Fishery Management Plan to provide for a mandatory, vessel-financed observer program on at-sea processing vessels. This action was necessary to satisfy the standardized bycatch reporting methodology requirements of the 1996 Sustainable Fisheries Act amendments to the Magnuson-Stevens Act.

47. Fisheries Off West Coast States and in the Western Pacific; Pacific Coast Groundfish Fishery; Amendment 16-3; Corrections. RIN 0648-AS26 (69 FR57874, September 28, 2004). NMFS issued this final rule to implement Amendment 16-3 to the Pacific Coast Groundfish Fishery Management Plan. Amendment 16-3 amended the Fishery Management Plan to include overfished species rebuilding plans for bocaccio, cowcod, widow rockfish, and yelloweye rockfish within the Fishery Management Plan. This final rule added two rebuilding parameters to the Code of Federal Regulations for each overfished stock, the target year for rebuilding and the harvest control rule. Amendment 16-3 addressed the requirements of the Magnuson-Stevens Act to protect and rebuild overfished species managed under a Federal Fishery Management Plan. Amendment 16-3 also responded to a Court order in which NMFS was ordered to provide Pacific Coast groundfish rebuilding plans as Fishery Management Plans, amendments, or regulations, per the Magnuson-Stevens Act. This rule also updated the list of rockfish species defined in the Code of Federal Regulations to match those listed in the Fishery Management Plan and contained corrections to 50 CFR part 660, subpart G.

48. Fisheries of the Caribbean, Gulf of Mexico, and South Atlantic; Fishery Management Plan for the Shrimp Fishery off the Southern Atlantic States; Amendment 5. RIN 0648-AP41 (68 FR 2188, January 16, 2003). NMFS issued this final rule to implement Amendment 5 to the Fishery Management Plan for the Shrimp Fishery off the Southern Atlantic States. This final rule established a limited access program for the rock shrimp fishery in the exclusive economic zone off Georgia and off the east coast of Florida (limited access area), established a minimum mesh size for a rock shrimp trawl net in the limited access area, required the use of an approved vessel monitoring system by vessels allowed to fish for rock shrimp in the limited access program, and required an operator of a vessel in the rock shrimp fishery in the exclusive economic zone off the southern Atlantic states (North Carolina through the east coast of Florida) to have an operator permit. In addition, NMFS informed the public of the approval by the Office of Management and Budget of the collection-of-information requirements contained in this final rule and published the Office of Management and Budget control numbers for those collections. The intended effects of this final rule were to minimize additional increases in harvesting capacity in the rock shrimp fishery; reduce the bycatch of small, unmarketable rock shrimp; enhance compliance with fishery management regulations; improve protection of essential fish habitat, including an area that contains the last 20 acres (8 hectares) of intact Oculina coral remaining in the world; and ensure the long-term economic viability of the rock shrimp industry.

49. Fisheries of the Caribbean, Gulf of Mexico, and South Atlantic; Coastal Migratory Pelagic Resources of the Gulf of Mexico and South Atlantic; Reef Fish Fishery of the Gulf of Mexico; Revision of Charter Vessel and Headboat Permit Moratorium Eligibility Criterion. RIN 0648-AQ70 (68 FR 26230, May 15, 2003). NMFS issued this final rule to implement a corrected Amendment for the charter vessel/headboat permit moratorium established in Amendment 14 to the Fishery Management Plan for the Coastal Migratory Pelagic Resources of the Gulf of Mexico and South Atlantic and in Amendment 20 to the Fishery Management Plan for the Reef Fish Resources of the Gulf of Mexico. This final rule revised, consistent with the actions taken by the Gulf of Mexico Fishery Management Council (Council), one of the eligibility criteria for obtaining a charter vessel/headboat permit under the moratorium. This final rule also reopened the application process for obtaining Gulf charter vessel/headboat moratorium permits and extended the applicable deadlines; extended the expiration dates of valid or renewable open access permits for these fisheries; clarified, as requested by the Council, a constraint on issuance of historical captain permits under the moratorium; and extended the expiration date of the moratorium to account for the delay in implementation. In addition, NMFS informed the public of the approval by the Office of Management and Budget of the collection-of-information requirements contained in this final rule and published the Office of Management and Budget control numbers for those collections. The intended effect of this final rule was to implement the charter vessel/headboat moratorium in the Gulf of Mexico consistent with the actions taken by the Council.

50. Fisheries of the Caribbean, Gulf of Mexico, and South Atlantic; Pelagic Sargassum Habitat of the South Atlantic Region. RIN 0648-AN87 (68 FR 57375, October 3, 2003). NMFS issued this final rule to implement the Fishery Management Plan for Pelagic Sargassum Habitat of the South Atlantic Region. This final rule limited the harvest or possession of pelagic sargassum in or from the exclusive economic zone off the southern Atlantic states to 5,000 lb (2,268 kg) annually; restricted fishing for pelagic sargassum in the South Atlantic exclusive economic zone to an area no less than 100 nautical miles offshore of North Carolina and to the months of November through June; required vessel owners or operators to accommodate NMFS-approved observers on all pelagic sargassum fishing trips; and restricted the mesh and frame sizes of nets used to harvest pelagic sargassum. The Fishery Management Plan also defined the management unit, maximum sustainable yield, optimum yield, and overfishing parameters. In addition, NMFS informed the public of the approval by the Office of Management and Budget of the collection-of-information requirements contained in this final rule and published the Office of Management and Budget control numbers for those collections. The intended effects were to conserve and manage pelagic sargassum and to protect essential fish habitat.

51. Fisheries of the Caribbean, Gulf of Mexico, and South Atlantic; Shrimp Fishery of the Gulf of Mexico; Amendment 10. RIN 0648-AM23 (69 FR 1538, January 9, 2004). NMFS issued this final rule to implement the approved measures of Amendment 10 to the Fishery Management Plan for the Shrimp Fishery of the Gulf of Mexico, as prepared and submitted by the Gulf of Mexico Fishery Management Council. This final rule required, with limited exceptions, the use of NMFS-certified bycatch reduction devices in shrimp trawls in the Gulf of Mexico exclusive economic zone (Gulf EEZ) east of 85°30′W longitude (approximately Cape San Blas, FL). In addition, this final rule identified the certified BRDs authorized for use in the Gulf EEZ east of 85°30′W longitude and modified the “Gulf Of Mexico Bycatch Reduction Device Testing Protocol Manual” to reflect the specific bycatch reduction criterion applicable for certification of bycatch reduction devices used in this area of the Gulf EEZ. The intended effect of this final rule was to reduce bycatch in the Gulf of Mexico shrimp fishery to the extent practicable.

52. Fisheries of the Caribbean, Gulf of Mexico, and South Atlantic; Snapper-Grouper Fishery off the Southern Atlantic States; Amendment 13A. RIN 0648-AP03 (69 FR 15731, March 26, 2004). NMFS issued this final rule to implement Amendment 13A to the Fishery Management Plan for the Snapper-Grouper Fishery of the South Atlantic Region. This final rule extended the previous prohibitions on fishing for South Atlantic snapper grouper in the experimental closed area and on retaining such species in or from the area. The experimental closed area included a portion of the Oculina Bank Habitat Area of Particular Concern, which is in the exclusive economic zone in the Atlantic Ocean off Ft. Pierce, FL. The intended effect was to continue the benefits of the closed area—in particular, enhanced stock stability and increased recruitment of South Atlantic snapper-grouper by providing an area where deepwater snapper-grouper species can grow and reproduce without being subjected to fishing mortality.

53. Fisheries of the Caribbean, Gulf of Mexico, and South Atlantic; Reef Fish Fishery of the Gulf of Mexico; Extension of Marine Reserves. RIN 0648-AR66 (69 FR 24532, May 4, 2004). NMFS issued final regulations to implement Amendment 21 to the Fishery Management Plan for the Reef Fish Resources of the Gulf of Mexico prepared by the Gulf of Mexico Fishery Management Council. These final regulations modified the fishing restrictions that apply within the Madison and Swanson sites and Steamboat Lumps marine reserves in the eastern Gulf of Mexico, and these final regulations extended the period of effectiveness of those restrictions through June 16, 2010. The intended effect of these final regulations was to protect the spawning aggregations of species within these areas, prevent overfishing, and aid in the evaluation of the effectiveness of marine reserves as a management.

54. Fisheries of the Caribbean, Gulf of Mexico, and South Atlantic; Dolphin and Wahoo Fishery Off the Atlantic States. RIN 0648-AO63 (69 FR 30235, May 27, 2004). NMFS issued this final rule to implement the approved measures of the Fishery Management Plan for the Dolphin and Wahoo Fishery off the Atlantic States. For the dolphin and wahoo fishery in the exclusive economic zone off the Atlantic states (Maine through the east coast of Florida), this final rule required vessel owners to obtain commercial vessel and charter vessel/headboat permits and, if selected, submit reports; required operators of commercial vessels, charter vessels, and headboats to obtain operator permits; required dealers to obtain permits and, if selected, submit reports; established bag limits and a minimum size limit (dolphin only); closed the longline fisheries in areas closed to the use of such gear for highly migratory pelagic species; prohibited sale without a commercial vessel permit; specified allowable gear; and established a framework procedure by which the South Atlantic Fishery Management Council could establish and modify certain management measures in a timely manner. The Fishery Management Plan also specified maximum sustainable yield, optimum yield, the determinants of overfishing (maximum fishing mortality threshold) and overfished (minimum stock size threshold), the management unit, the fishing year, and essential fish habitat and essential fish habitat habitat areas of particular concern. In addition, NMFS informed the public of the approval by the Office of Management and Budget of the collection-of-information requirements contained in this final rule and publishes the Office of Management and Budget control numbers for those collections. The intended effects were to conserve and manage dolphin and wahoo and to ensure that no new fisheries for dolphin and wahoo develop.

55. Fisheries of the Caribbean, Gulf of Mexico, and South Atlantic; Reef Fish Fishery of the Gulf of Mexico; Red Grouper Rebuilding Plan. RIN 0648-AP95 (69 FR 33315, June 15, 2004). NMFS issued this final rule to implement Secretarial Amendment 1 to the Fishery Management Plan for the Reef Fish Resources of the Gulf of Mexico. Secretarial Amendment 1 was prepared by the Secretary of Commerce and the Gulf of Mexico Fishery Management Council pursuant to the rebuilding requirements of the Magnuson-Stevens Act. This final rule established a quota for red grouper, provided for closure of the entire shallow-water grouper fishery when either the shallow-water grouper quota or the red grouper quota was reached, established a bag limit of two red grouper per person per day, reduced the shallow-water grouper quota, reduced the deep-water grouper quota, and established a quota for tilefishes. In addition, for red grouper in the Gulf of Mexico, Secretarial Amendment 1 established a 10-year stock rebuilding plan, biological reference points, and stock status determination criteria consistent with the requirements of the Magnuson-Stevens Act. This final rule was designed to end overfishing and rebuild the red grouper resource.

56. Fisheries off West Coast States and in the Western Pacific; Coastal Pelagic Species Fishery; Regulatory Amendment. RIN 0648-AQ94 (68 FR 52523, September 4, 2003). NMFS issued a final rule to implement a regulatory amendment to the Coastal Pelagic Species Fishery Management Plan that changed the management subareas and the allocation process for Pacific sardine. The purpose of this final rule was to establish a more effective and efficient allocation process for Pacific sardine and increase the possibility of achieving optimum yield.

57. Taking of Threatened or Endangered Species Incidental to Commercial Fishing Operations. RIN 0648-AR53 (69 FR 11540, March 11, 2004). NMFS issued a final rule to prohibit shallow longline sets of the type normally targeting swordfish on the high seas in the Pacific Ocean east of 150° W longitude by vessels managed under the Fishery Management Plan for U.S. West Coast Fisheries for Highly Migratory Species. This action was intended to protect endangered and threatened sea turtles from the adverse impacts of shallow longline fishing by U.S. longline fishing vessels in the Pacific Ocean and operating out of the west coast. This rule supplemented the regulations that implemented the Fishery Management Plan that prohibited shallow longline sets on the high seas in the Pacific Ocean west of 150° W longitude by vessels managed under that Fishery Management Plan. The Fishery Management Plan was partially approved by NMFS on February 4, 2004. Together, these two regulations are expected to conserve leatherback and loggerhead sea turtles as required under the Endangered Species Act (ESA).

58. Fisheries Off West Coast States and in the Western Pacific; Highly Migratory Species Fisheries. RIN 0648-AP42. (69 FR 18444, April 7, 2004). NMFS published a final rule to implement the approved portions of the Fishery Management Plan for U.S. West Coast Fisheries for Highly Migratory Species. The intended effect of this final rule was to establish Federal management of U.S. fisheries for Pacific tunas, sharks, billfish, swordfish, and other highly migratory fish in the surface hook and line, drift gillnet, harpoon, pelagic longline, purse seine, and recreational fisheries in the U.S. exclusive economic zone off the coasts of Washington, Oregon, and California and (for U.S. vessels) in adjacent high seas waters. This final rule was issued to prevent overfishing of the fish stocks to the extent practicable and achieve optimum yield for the U.S. fisheries involved while minimizing bycatch and protected species interactions consistent with the Magnuson-Stevens Act and other applicable law. The final rule implemented consistent management of these fisheries with respect to the states, other fishery management councils, and international agreements. The final rule was intended to promote the long-term economic health of the fisheries.

59. International Fisheries Regulations; Pacific Tuna Fisheries. RIN 0648-AQ22. (69 FR 31531, June 4, 2004). NMFS issued regulations to implement the 1981 Treaty Between the Government of the United States of America and the Government of Canada on Pacific Coast Albacore Tuna Vessels and Port Privileges (Treaty) as authorized by recently passed legislation. This final rule established vessel marking, recordkeeping, and reporting requirements for U.S. albacore tuna fishing vessel operators, as well as for vessel marking and reporting requirements for Canadian albacore tuna fishing vessel operators fishing under the Treaty. The intended effect of this final rule was to allow the United States to carry out its obligations under the Treaty by limiting fishing by both U.S. and Canadian vessels as provided for in the Treaty.

60. Fisheries Off West Coast States and in the Western Pacific; Coral Reef Ecosystems Fishery Management Plan for the Western Pacific. RIN 0648-AM97. (69 FR 8336, February 24, 2004). NMFS published this final rule to implement the Fishery Management Plan for Coral Reef Ecosystems of the Western Pacific Region. The rule established a coral reef ecosystem regulatory area, marine protected areas, permitting and reporting requirements, no-anchoring zone, gear restrictions, and a framework regulatory process. This rule also pertained to the other four western Pacific fishery management plans with respect to fishing activities in the U.S. exclusive economic zone of the western Pacific region and implemented Amendment 10 to the Fishery Management Plan for the Pelagic Fisheries of the Western Pacific Region, Amendment 11 to the Fishery Management Plan for the Crustacean Fisheries of the Western Pacific Region, Amendment 7 to the Fishery Management Plan for the Bottomfish and Seamount Groundfish Fisheries of the Western Pacific Region, and Amendment 5 to the Fishery Management Plan for the Precious Coral Fisheries of the Western Pacific Region.

61. Fisheries Off West Coast States and in the Western Pacific; Western Pacific Pelagic Fisheries; Pelagic Longline Fishing Restrictions, Seasonal Area Closure, Limit on Swordfish Fishing Effort, Gear Restrictions, and Other Sea Turtle Take Mitigation Measures. RIN 0648-AR84. (69 FR 17329, April 2, 2004). NMFS approved a regulatory amendment under the Fishery Management Plan for the Pelagic Fisheries of the Western Pacific Region submitted by the Western Pacific Fishery Management Council and issued this final rule to establish a number of conservation and management measures for the fisheries managed under the Fishery Management Plan. This final rule was intended to achieve certain objectives of the Fishery Management Plan, including achieving optimum yield for managed species while avoiding the likelihood of jeopardizing the continued existence of any species listed as endangered or threatened under the Endangered Species Act. This final rule eliminated a seasonal closure for longline fishing in an area south of the Hawaiian Islands and reopened the swordfish-directed component of the Hawaii-based longline fishery. In order to minimize adverse impacts on sea turtles, the swordfish component of the Hawaii-based longline fishery was subjected to restrictions on the types of hooks and bait that may be used, annual fleet-wide limits on fishery interactions with leatherback and loggerhead sea turtles, an annual fleet-wide limit on fishing effort, and other mitigation measures.

62. Atlantic Highly Migratory Species; Incidental Catch Requirements of Bluefin Tuna. RIN 0648-AO75. (68 FR 32414, May 30, 2003). NMFS amended regulations under the framework provisions of the Fishery Management Plan for Atlantic Tunas, Swordfish, and Sharks governing the Atlantic bluefin tuna fishery as they affected landing of Atlantic bluefin tuna in the Atlantic pelagic longline fishery. The intent of this action was to minimize dead discards of Atlantic bluefin tuna and improve management of the Atlantic pelagic longline fishery, while complying with the National Standards of the Magnuson-Stevens Act and allowing harvest consistent with recommendations of the International Commission for the Conservation of Atlantic Tunas.

63. Atlantic Highly Migratory Species; Atlantic Bluefin Tuna Quota Specification, General Category Effort Controls, and Permit Revisions. RIN 0648-AQ38. (68 FR 56783, October 2, 2003). NMFS announced the final initial 2003 fishing year specifications for the Atlantic bluefin tuna fishery to set Atlantic bluefin tuna quotas for each of the established fishing categories; to set General category effort controls; to allocate 25 metric tons (mt) of Atlantic bluefin tuna to account for incidental catch of Atlantic bluefin tuna by pelagic longline vessels “in the vicinity of the management boundary area;” to define the management boundary area and applicable restrictions; and to revise permit requirements to allow General registered recreational Highly Migratory Species (HMS) fishing tournaments and to allow permit applicants a 10-calendar-day period to make permit category changes to correct potential errors. The final initial quota specifications, including the quota allocation to account for incidental catch of Atlantic bluefin tuna by pelagic longline vessels in the vicinity of the management boundary area and the General category effort controls, were necessary to implement recommendations of the International Commission for the Conservation of Atlantic Tunas, pursuant to the Atlantic Tunas Convention Act, and to achieve domestic management objectives under the Magnuson-Stevens Act. The definition of the management boundary area was to assist management, monitoring, and enforcement of the 25 mt allocated to the Longline category. The permit revisions to allow General category permitted vessels to participate in registered recreational HMS fishing tournaments and to allow a time period for permit category changes were intended to relieve restrictions and help achieve domestic management objectives.

64. Atlantic Highly Migratory Species; Atlantic Shark Management Measures. RIN 0648-AQ95. (68 FR 74746, December 24, 2003). This final rule was necessary to ensure that shark regulations were based on the results of the 2002 stock assessments for large coastal sharks (LCS) and small coastal sharks (SCS). The results of these stock assessments indicated that the LCS complex continued to be overfished, and overfishing was occurring; that sandbar sharks were not overfished, but overfishing was occurring; that blacktip sharks were rebuilt and healthy; that the SCS complex was healthy; and that finetooth sharks were not overfished, but overfishing was occurring. Based on these results, NMFS revised the rebuilding timeframe for LCS to 26 years from 2004; changed some of the commercial regulations; changed some of the recreational regulations; implemented measures to reduce bycatch and bycatch mortality, including a time/area closure; removed the deepwater/other sharks from the management unit; established criteria regarding adding or removing sharks from the prohibited species group; and established a display permit for fishermen who wish to harvest highly migratory species for public display. NMFS also updated essential fish habitat identifications for sandbar, blacktip, finetooth, dusky, and nurse sharks. NMFS also notified eligible participants of the opening and closing dates for the Atlantic large coastal, small coastal, and pelagic shark fishing seasons.

65. Atlantic Highly Migratory Species; Bluefin Tuna Season and Size Limit Adjustments. RIN 0648-AR12. (68 FR 74504, December 24, 2003). Under the framework provisions of the Fishery Management Plan for Atlantic Tunas, Swordfish, and Sharks governing the Atlantic bluefin tuna fishery, NMFS amended the regulations regarding the opening date of the Purse seine category, closure dates of the Harpoon and General categories, and size tolerances of large-medium Atlantic bluefin tuna for the Purse seine and Harpoon categories. The intent of this final rule was to further achieve domestic management objectives under the HMS Fishery Management Plan and Magnuson-Stevens Act and to implement recommendations of the International Commission for the Conservation of Atlantic Tunas pursuant to the Atlantic Tunas Convention Act.

66. Atlantic Highly Migratory Species (HMS); Pelagic Longline Fishery. RIN 0648-AR80. (69 FR 40734, July 6, 2004). This final rule implemented new sea turtle bycatch and bycatch mortality mitigation measures for all Atlantic vessels that have pelagic longline (PLL) gear onboard and that have been issued, or are required to have, Federal HMS limited access permits, consistent with the requirements of the Endangered Species Act, the Magnuson-Stevens Act, and other domestic laws. These measures included mandatory circle hook and bait requirements, and mandatory possession and use of sea turtle release equipment to reduce bycatch mortality. This final rule also allowed vessels with pelagic longline gear onboard that have been issued, or are required to have, Federal HMS limited access permits to fish in the Northeast Distant Closed Area, if they possess and/or use certain circle hooks and baits, sea turtle release equipment, and comply with specified sea turtle handling and release protocols.

67. International Fisheries; Atlantic Highly Migratory Species. RIN 0648-AQ37. (69 FR 67268, November 17, 2004). This final rule implemented international trade tracking recommendations of the International Commission for the Conservation of Atlantic Tunas and the Inter-American Tropical Tuna Commission for bluefin tuna, swordfish, and frozen bigeye tuna, regardless of ocean area of origin. Trade monitoring requirements for species covered under the recommendations and for southern bluefin tuna were established by this rule, including: A highly migratory species international trade permit; statistical documents and re-export certificates; and recordkeeping, reporting, and inspection requirements.

68. Atlantic Highly Migratory Species; Atlantic Commercial Shark Management Measures. RIN 0648-AS08. (69 FR 69537, November 30, 2004). This final rule adjusted the regional quotas and established new trimester season quotas for large coastal sharks and small coastal sharks based on updated landings information. This final rule included a framework mechanism for the annual adjustment of quotas, a method of accounting for over- or under harvests in the transition from semi-annual to trimester seasons, and a new process for notifying participants of season opening and closing dates and quotas. This final rule also announced the opening and closing dates for the large coastal sharks fishery based on adjustments to the regional and trimester quotas. This action was necessary to ensure that the landings quotas in the Atlantic commercial shark fishery represent the latest landings data and accurately reflected historic fishing effort.

69. Atlantic Highly Migratory Species; Atlantic Trade Restrictive Measures. RIN 0648-AR10. (69 FR 70396, December 6, 2004). NMFS adjusted the regulations governing the trade of species regulated by the International Commission for the Conservation of Atlantic Tunas (ICCAT) in the North and South Atlantic Ocean to implement recommendations adopted at the 2002 and 2003 meetings of ICCAT. This final rule lifted or implemented import prohibitions for bigeye tuna, bluefin tuna, and swordfish on Honduras, St. Vincent and the Grenadines, Belize, Sierra Leone, Bolivia, and Georgia. This rule also prohibited imports from vessels on the ICCAT illegal, unreported, and unregulated fishing list and from vessels that are not listed on ICCAT's record of vessels that are authorized to fish in the Convention Area. Additionally, this rule required issuance of a chartering permit before a vessel begins fishing under a chartering arrangement.

70. Atlantic Coastal Fisheries Cooperative Management Act Provisions; Weakfish Fishery. RIN 0648-AR11. (68 FR 56789, October 2, 2003). NMFS issued this final rule to increase the incidental catch allowance for weakfish caught in the exclusive economic zone from 150 lb (67 kg) to no more than 300 lb (135 kg) per day or trip, whichever was longer in duration; to remove Connecticut from the list of states where commercially caught weakfish from the exclusive economic zone can be landed; and to add to NMFS' regulations the Director, Office of Sustainable Fisheries, as an official who can grant Exempted Fishing Permits. The intent of this final rule was to modify regulations for the Atlantic coast stock of weakfish to promote the effectiveness of the Atlantic States Marine Fisheries Commission's Interstate Fishery Management Plan for weakfish.

71. Fishing Capacity Reduction Program for the Crab Species Covered by the Fishery Management Plan for the Bering Sea/Aleutian Islands King and Tanner Crabs. RIN 0648-AP25. (68 FR 69331, December 12, 2003). This final rule established a fishing capacity reduction program in the fishery for the crab species managed under the Bering Sea/Aleutian Islands King and Tanner Crabs Fishery Management Plan. The program reduced excess capacity and promoted economic efficiency in the crab fishery. It was authorized under both special legislation and existing NMFS regulations governing fishing capacity reduction programs. Its objectives included: Increasing harvesting productivity for crab fishermen who remain after capacity reduction, helping conserve and manage fishery resources, and encouraging harvesting effort rationalization. Program participation was voluntary. Under the program, NMFS paid participants for withdrawing vessels from fishing, relinquishing fishing licenses, and surrendering fishing histories. NMFS financed the program's $100 million cost with a 30-year loan to be repaid by post-reduction fishermen.

72. Antartic Marine Living Resources; CCAMLR Ecosystem Monitoring Permits; Vessel Monitoring System; Catch Documentation Scheme; Fishing Season; Registered Agent; and Disposition of Seized AMLR. RIN 0648-AP74. (68 FR 23224, May 1, 2003). NMFS issued this final rule to: Lengthen the duration of the permit required to enter a Commission for the Conservation of Antarctic Marine Living Resources (CCAMLR) Ecosystem Monitoring Program (CEMP) site from 1 year to up to 5 years; define the CCAMLR fishing season and require the use of an automated satellite-linked vessel monitoring system for U.S. vessels harvesting Antarctic marine living resources (AMLR) in the area of the Convention on the Conservation of Antarctic Marine Living Resources (Convention); require foreign entities to designate and maintain a registered agent within the United States; prohibit the import of Dissostichus species (toothfish) identified as originating from certain high seas areas outside the Convention Area; incorporate into the Code of Federal Regulations the prohibition on the import of toothfish issued a Specially Validated Dissostichus Catch Document; and institute a preapproval system for U.S. receivers and importers of Dissostichus eleginoides (Patagonian toothfish) and Dissostichus mawsoni (Antarctic toothfish). This final rule was intended to implement U.S. obligations as a Member of CCAMLR and to conserve Antarctic and Patagonian toothfish by preventing and discouraging unlawful harvest and trade in these species and streamlining the administration of the Dissostichus Catch Document scheme.

73. Endangered and Threatened Wildlife; Sea Turtle Conservation Requirements. RIN 0648-AN62. (68 FR 8456, February 21, 2003). NMFS amended the turtle excluder device (TED) regulations to enhance their effectiveness in reducing sea turtle mortality resulting from trawling in the southeastern United States. NMFS determined that: Some previously approved TED designs did not adequately exclude leatherback turtles and large, immature and sexually mature loggerhead and green turtles; several approved TED designs were structurally weak and did not function properly under normal fishing conditions; and modifications to the trynet and bait shrimp exemptions to the TED requirements were necessary to decrease lethal take of sea turtles. These amendments were necessary to protect endangered and threatened sea turtles in the Atlantic Area (all waters of the Atlantic Ocean south of the North Carolina/Virginia border and adjacent seas, other than the Gulf Area, and all waters shoreward thereof) and Gulf Area (all waters of the Gulf of Mexico west of 81° W longitude and all waters shoreward thereof).

74. Taking of Threatened or Endangered Species Incidental to Commercial Fishing Operations. RIN 0648-AQ13. (68 FR 69962, December 16, 2003). NMFS issued a final rule prohibiting fishing with drift gillnets in the California/Oregon (CA/OR) thresher shark/swordfish drift gillnet fishery in U.S. waters off southern California in waters east of the 120° W, for the months of June, July, and August, when the Assistant Administrator for Fisheries publishes a notice that El Nino conditions are forecasted or present off southern California. NMFS has determined that the incidental take of loggerhead sea turtles by this fishery correlates to the area and season being fished during these oceanographic conditions. The intent of this regulation was to reduce the take of loggerhead turtles by the fishery and reduce the likelihood of the CA/OR drift gillnet fishery jeopardizing the continued existence of the loggerhead turtle population.

75. Taking of Threatened or Endangered Species Incidental to Commercial Fishing Operations. RIN 0648-AR53. (69 FR 11540, March 11, 2004). NMFS issued a final rule to prohibit shallow longline sets of the type normally targeting swordfish on the high seas in the Pacific Ocean east of 150° W longitude by vessels managed under the Fishery Management Plan for U.S. West Coast Fisheries for Highly Migratory Species (FMP). This action was intended to protect endangered and threatened sea turtles from the adverse impacts of shallow longline fishing by U.S. longline fishing vessels in the Pacific Ocean and operating out of the west coast. This rule supplemented the regulations that implemented the FMP that prohibit shallow longline sets on the high seas in the Pacific Ocean west of 150° W longitude by vessels managed under that FMP. The FMP was partially approved by NMFS on February 4, 2004. Together, these two regulations were expected to conserve leatherback and loggerhead sea turtles as required under the Endangered Species Act.

76. Taking of Marine Mammals Incidental to Commercial Fishing Operations; Atlantic Large Whale Take Reduction Plan Regulations. RIN 0648-AQ04. (68 FR 51195, August 26, 2003). NMFS issued this final rule to amend the regulations that implement the Atlantic Large Whale Take Reduction Plan to identify gear modifications that sufficiently reduce the risk of entanglement to western North Atlantic right whales under the dynamic area management program and, as such, allowed NMFS to utilize the option of allowing gear with certain modifications within a dynamic area management zone. Specifically, NMFS identified anchored gillnet and lobster trap/pot gear modifications that could be allowed within a dynamic area management zone. This final rule included a provision to correct and clarify the regulations implementing the seasonal area management program with respect to lobster trap gear in northern inshore state lobster waters and northern nearshore lobster waters that overlap with a seasonal area management area.

Dated: July 10, 2012.
Alan D. Risenhoover,
Director, Office of Sustainable Fisheries, performing the functions and duties of the Deputy Assistant Administrator for Regulatory Programs, National Marine Fisheries Service.

[FR Doc. 2012-17257 Filed 7-13-12; 8:45 am]

BILLING CODE 3510-22-P